DEPARTMENT OF HOMELAND SECURITY

Office of the Secretary

Senior Executive Service Performance Review Board

AGENCY: Office of the Secretary, DHS.

ACTION: Notice.

SUMMARY: This notice announces the appointment of the members of the Senior Executive Service Performance Review Boards for the Department of Homeland Security. The purpose of the Performance Review Board is to review and make recommendations concerning proposed performance appraisals, ratings, bonuses, pay adjustments, and other appropriate personnel actions for incumbents of Senior Executive Service positions of the Department.

EFFECTIVE DATES: This Notice is effective October 7, 2005.

FOR FURTHER INFORMATION CONTACT: Carmen Arrowood, Office of the Chief Human Capital Office, telephone (202) 357-8348.

SUPPLEMENTARY INFORMATION: Each Federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Adamoli, Joseph B.

Adams, Audrey L.

Aguilar, David V.

Ahern, Jayson P.

Alexander, Jane A.

Arcos, Cresencio

Balaban, Richard L.

Bathurst, Donald G.

Beardsworth, Richard

Bergman, Cynthia L.

Besanceney, Brian R.

Blair, James D.

Bone, Craig, E. RADML

Boudreaux, Chad

Boyd, David G.

Brice-O'Hara, Sally RADM

Broderick, Matthew E.

Buikema, Edward G.

Cannatti, Ashley

Charbo, Lawrence Scott

Cira, Anthony Thomas

Cuddihy, Joseph D.

Currier, John P. RADML

DiGregorio, Elizabeth L.

Dinanno, Thomas G.

Dolan, Kay Frances

Dooher, John C.

Duke, Elaine C.

Dunham, Carol A.

Dunlap, James L.

Fagerholm, Eric N.

Filler, Joshua D.

Forman, Marcy M.

Fonash, Peter M.

Hale, Janet

Hall, Michael J.

Hasting, Charles R.

Hastings, Scott O.

Hill, Kenneth

Holcomb, Lee B.

Irving, Paul D.

James, Ronald J.

Jones, Rendell L.

Kelleher, John J.

Kent, Donald H.

Khatri, Prakash I.

Kubricky, John J.

Kunkel, David W. RADM

Ladd, Paul E.

Lang, Gary J.

Langlois, Joseph E.

Lederer, Calvin M.

Lockwood, Thomas

Lumsden, Sheila

Lynch, Dennis F.

MacDonald, John R.

Mandelker, Sigal P.

Maner, Andrew B.

Martinez-Fonts, Alfonso

Matticks, John

Maursstad, David I.

Mayer, Matt A.

McCampbell, Christy

McCarthy, Maureen I.

McDonald, Sallie

McKennis, Amy D.

McNamara, John C.

McQueary, Charles E.

Mitchell, Andrew

Mocny, Robert A.

Nagel, Brian K.

Nimmich, Joseph L. RDML

O'Neill, James P.

O'Reilly, Terrance M.

Ostergaard, Daniel J.

Oxford, Vayl S.

Paar, Thomas C.

Parent, Wayne

Prewitt, Keith L.

Prillaman, K. Gregg

Quinn, Thomas

Reyes, Juan

Richmond, Susan

Riggs, Barbara S.

Robles, Alfonso

Rogers, George D.

Rossides, Gale D.

Rothwell, Gregory D.

Runge, Jeffrey W.

Santana, Catherine Y.

Schied, Eugene H.

Schmitz, Michael T.

Shingler, Wendell C.

Sirois, R. Dennis RADM

Smith, Robert M.

Sposato, Janis A.

Stalhschmidt, Patricia K.

Stallworth, Charles E.

Stenger, Michael C.

Stephan, Robert B.

Stephens, Michael P.

Sullivan, Daniel

Sullivan, Mark J.

Sutherland, Daniel W.

Tambone, Victor J.

Teufel, Hugo

Thomson, E. Keith

Torres, John

Trissell, David A.

Turner, Pamela J.

Turner, Todd H.

Vanacore, Michael J.

Venuto, Kenneth T. RADM

Vint, Norbert E.

Walker, Carmen H.

Weber, Robert W.

West, Robert C.

Whitehead, Joel R. RDML

Whitford, Richard A.

Wiggins, Michael

Williams, Dwight

Williams, James A.

Williams, Richard N.

Wood, John F.

Woodson, Mary Ann

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: September 30, 2005.
Rodney Markham,
Director, Executive Resources, Office of the Chief Human Capital Office.

[FR Doc. 05-20167 Filed 10-6-05; 8:45 am]

BILLING CODE 4410-10-P